DEPARTMENT OF AGRICULTURE

Forest Service

Wayne National Forest: Athens, Gallia, Hocking, Jackson, Lawrence, Monroe, Morgan, Noble, Perry, Scioto, Vinton and Washington Counties; Ohio; Assessment Report of Ecological, Social and Economic Conditions, Trends and Sustainability for the Wayne National Forest

AGENCY: Forest Service, USDA.

ACTION: Notice.

SUMMARY: The Wayne National Forest (Wayne), located in the Unglaciated Allegheny Plateau of southeast Ohio, is initiating the forest planning process pursuant to the 2012 Planning Rule. This process will result in a revised and updated Natural Resource Land Management Plan for the Wayne, often referred to as the Forest Plan, which will guide all resource management activities on the Wayne for approximately the next fifteen years. The current Wayne Forest Plan was completed in 2006.

The plan revision process encompasses three stages: Assessment, plan development, and implementation and monitoring. This notice announces the initiation of the assessment phase, the first stage of the plan revision process. The assessment shall rapidly identify and consider relevant and readily accessible information about ecological, social and economic conditions and trends in the planning area. Findings will be documented in an assessment report that will be available for public comment.

DATES: In the spring and summer of 2018, the public is invited to participate in the assessment phase of the revision process, for which public engagement opportunities will be posted on the Wayne Forest Plan Revision website located at: https://www.fs.usda.gov/wayne/landmanagement/planning.

Information will also be sent to electronic mailing lists, social media, and media outlets. If members of the public are interested in learning more, please visit the Forest Plan Revision website and select the link to subscribe to updates on the Wayne Forest Plan Revision. Information can also be obtained by sending an email to WaynePlanRevision@fs.fed.us.

The draft assessment report for the Wayne National Forest is expected to be completed by August 2018 and will be posted on the Wayne Forest Plan Revision website listed above for review. The final assessment report is expected to be completed by October 2018. The assessment will inform the need for changes required in the existing forest plan. Wayne National Forest will then initiate procedures pursuant to the National Environmental Policy Act (NEPA) and prepare and evaluate a revised Forest Plan.

ADDRESSES: Send written comments to: Wayne National Forest, Attn: Plan Revision, 13700 US HWY 33, Nelsonville, OH 45764. Written comments may also be sent via email to WaynePlanRevision@fs.fed.us, or via facsimile to 740-753-0118. All correspondence, including names and addresses when provided, will be placed in the record and will be available for public inspection and copying.

FOR FURTHER INFORMATION CONTACT: Lori Swiderski, Revision Project Director, 740-753-0859, WaynePlanRevision@fs.fed.us. Individuals who use telecommunication devices for the deaf (TDD) may call the Federal Information Relay Service (FIRS) at 1-800-877-8339 between 8 a.m. and 8 p.m., Eastern Time, Monday through Friday.

SUPPLEMENTARY INFORMATION: The National Forest Management Act (NFMA) of 1976 requires that every National Forest System (NFS) unit develop a Land and Resource Management Plan, often called a Forest Plan. On April 9, 2012, the Forest Service finalized its land management planning rule, referred to as the 2012 Planning Rule (26 CFR 219), which describes requirements for the planning process and provides programmatic direction to National Forests and National Grasslands for developing and implementing their forest plans. Forest Plans describe the strategic direction for management of forest resources, and are adaptive and amendable as conditions change over time, in order to remain relevant for their intended application period of 10-15 years.

Similar to the 2008 Planning Rule, the 2012 Planning Rule requires each national forest to outline desired conditions for each management area, specify objectives to achieve those conditions, and engage the public extensively throughout the plan revision process. However, the 2012 Planning Rule diverges from previous iterations in several guiding concepts and substantive components, particularly in relying on the concept of ecological integrity to frame plan assessment, develop plan components, and fulfill monitoring requirements. Based on current estimates, it is expected to take two years to produce a revised Forest Plan.

Pursuant to the 2012 Planning Rule, the revision process encompasses three stages: Assessment, plan revision and monitoring.

Assessment—This notice announces the start of the first stage of the process, during which updated information from the public, other federal agencies, and non-governmental parties, as well as still-applicable data from the previous revision effort will be compiled in a succinct assessment report. Information relevant to the assessment report may include the current, changed, and changing status of ecological, social and economic conditions within the planning area and their interconnected relationships within the context of the broader landscape. The development of the assessment includes opportunities for the public to contribute information and engage in the planning process to build a common understanding prior to entering formal plan revision. Information gathered will be documented in an assessment report that forms the basis for the need for change document, which identifies changes to be included in the new plan to provide management direction adaptable enough to address changing environmental, social and economic conditions.

For the first phase, the Wayne has posted helpful resources, including the current Forest Plan, the 15 required assessment topics, and the Citizen's Guide to National Forest Planning, on the Wayne Forest Plan website listed in the DATES section.

During this assessment phase, the Wayne invites other government agencies, non-governmental parties, and the public to share relevant information that will help develop an understanding of conditions and trends of the assessment topics that are useful to making decisions about the revised plan content. This will include governmental or non-governmental assessments, plans, monitoring reports, studies, and other sources of relevant information about existing and changed conditions, trends, and perceptions of social, economic and ecological systems in the planning area. The Wayne will host a variety of public outreach forums in the spring and summer of 2018 to facilitate this effort, and the public is encouraged to participate and provide meaningful contributions. The Wayne is seeking local knowledge of social values, available data resources, areas of use, and activities, goods and services produced by lands within the Wayne that will help identify gaps in the current management plan, inform the need for change, and highlight priority issues that should be addressed in this revision. This will then lead to the next step of the revision process and inform desired conditions, standards and guidelines, land suitability determinations, and other components that will become part of the revised plan. Public participation is an essential step toward understanding current conditions, available data, and feedback needed to support an overall strategic, efficient and effective revision process.

Several guiding principles, developed to overcome stakeholder-identified challenges, will drive public engagement throughout the plan revision process. These guiding principles include providing direct and transparent communication through a variety of methods, maintaining focused public involvement, building relationships, and promoting sharing, learning and understanding between the agency, partners and the public. These guiding principles will help the Wayne ensure that public engagement in the current assessment phase and throughout the plan revision process will be functional, accessible, and representative.

Plan Revision—Using the need for change as a foundation, the Wayne, in coordination with partners and the public, will then begin the plan revision phase of the process. During this phase, participants will develop a vision statement and goals that will lead the forest into the future, specifying desired conditions and objectives to help achieve these goals. The Wayne will engage the public to identify issues and develop plan alternatives. Finally, in compliance with the National Environmental Policy Act, a proposed action, an environmental impact statement (EIS), and eventually a revised Forest Plan will be completed, with announced opportunities for public review and comment. The plan is a programmatic document that will guide and define development of on-the-ground projects. However, the plan itself is not a decision document.

Monitoring—As part of the plan revision, the public will assist the Forest Service in developing a monitoring program, which will be carried out after the revised plan is approved and will continue through the life of the plan. The monitoring program should be designed to help evaluate progress towards meeting the desired conditions and objectives established by the Forest Plan, and may include monitoring questions that address the status of watershed conditions, visitor use and satisfaction, effects of management activies, and more. Monitoring efforts should be within the financial and technical capability of the agency and will help the Forest Service and the public evaluate the effectiveness of the Forest Plan by providing feedback and helping determine whether any changes in the plan are necessary.

To identify as much relevant information as possible, the Wayne is encouraging contributors to share their concerns and perceptions of the conditions and trends in social, economic and environmental systems within the Wayne planning area. Meetings, review and comment periods, and other opportunities for public engagement throughout the plan revision process will be publicized, with announcements posted on the Wayne's planning website at https://www.fs.usda.gov/main/wayne/landmanagement/planning. Information will also be sent out to the Forest's mailing list. If anyone is interested in being included in these notifications, please send an email to WaynePlanRevision@fs.fed.us.

Responsible Official

The Responsible Official for the revision of the Forest Plan for Wayne National Forest is Anthony V. Scardina, Forest Supervisor, Wayne National Forest, 13700 US HWY 33, Nelsonville, OH 45764.

Dated: March 10, 2018.
Chris French,
Associate Deputy Chief, National Forest System.

[FR Doc. 2018-08159 Filed 4-18-18; 8:45 am]

BILLING CODE 3411-15-P